FEDERAL COMMUNICATIONS COMMISSION

47 CFR Part 73

[MB Docket No. 99-25 FCC 05-75]

Creation of a Low Power Radio Service

AGENCY: Federal Communications Commission.

ACTION: Final rule; announcement of effective date.

SUMMARY: The Federal Communications Commission adopted rules to promote the operation and expansion of the low power FM (LPFM) service. These rules require Office of Management and Budget (OMB) approval to become effective. This document announces the effective date of these rules.

DATES: The rules published on July 7, 2005, 70 FR 39182 amending 47 CFR 73.870(a) and 73.871(c) are effective January 17, 2008.

FOR FURTHER INFORMATION CONTACT: For information on this proceeding, contact Holly Saurer, Holly.Saurer@fcc.gov, (202) 418-7283, of the Media Bureau. Questions concerning the OMB control number should be directed to Cathy Williams, Federal Communications Commission, (202) 418-2918 or via the Internet at Cathy.Williams@fcc.gov.

SUPPLEMENTARY INFORMATION: The Federal Communications Commission has received OMB approval for the rule changes published at 70 FR 39182, July 7, 2005. Through this document, the Commission announces that it received this approval on August 30, 2005.

In a Second Order on Reconsideration, released on March 17, 2005, FCC 05-75, and published in the Federal Register on July 7, 2005, 70 FR 39182, the Federal Communications Commission adopted rules which contained information collection requirements subject to that Paperwork Reduction Act. On August 30, 2005, the Office of Management and Budget approved the information collection requirements contained in 47 CFR 73.870(a) and 73.871(c). This information collection is assigned OMB Control Number 3060-0920. This publication satisfies the requirement that the Commission publish a document announcing the effective date of the rule changes requiring OMB approval.

Federal Communications Commission.
Marlene H. Dortch,
Secretary.

[FR Doc. E8-778 Filed 1-16-08; 8:45 am]

BILLING CODE 6712-01-P